DEPARTMENT OF VETERANS AFFAIRS

National Research Advisory Council; Notice of Meeting

The Department of Veterans Affairs (VA) gives notice under Public Law 92-463 (Federal Advisory Committee Act) that the National Research Advisory Council will hold a meeting on Monday, October 26, 2009, in room GL-20 at the Greenhoot Cohen Building, 1722 Eye Street, NW., Washington, DC. The meeting will convene at 8:30 a.m. and end at 3 p.m. The meeting is open to the public.

The purpose of the Council is to provide external advice and review for VA's research mission. The agenda will include a review of the VA research portfolio and a summary of current budget allocations. The Council will also provide feedback on the direction/focus of VA's research initiatives.

Any member of the public wishing to attend the meeting or wishing further information should contact Jay A Freedman, PhD, Designated Federal Officer, at (202) 461-1699. Oral comments from the public will not be accepted at the meeting. Written statements or comments should be transmitted electronically to jay.freedman@va.gov or mailed to Dr. Freedman at Department of Veterans Affairs, Office of Research and Development (12), 810 Vermont Avenue, NW., Washington, DC 20420.

Dated: September 14, 2009.
By Direction of the Secretary.
Vivian Drake,
Acting Committee Management Officer.

[FR Doc. E9-22562 Filed 9-17-09; 8:45 am]

BILLING CODE P